DEPARTMENT OF THE INTERIOR

Bureau of Land Management

[UTU 85338]

Public Land Order No. 7697; Transfer of Public Land for the Crescent Junction Uranium Mill Tailings Repository; Utah

AGENCY: Bureau of Land Management, Interior.

ACTION: Public land order.

SUMMARY: This order permanently transfers 500 acres of public land to the Department of Energy in accordance with the terms of the Uranium Mill Tailings Radiation Control Act of 1978 (42 U.S.C. 7916 (2000)), as amended.

EFFECTIVE DATE: March 31, 2008.

FOR FURTHER INFORMATION CONTACT: Mary von Koch, Realty Specialist, BLM Moab Field Office, 82 East Dogwood Avenue, Moab, Utah 84532, 435-259-2128.

Order

By virtue of the authority vested in the Secretary of the Interior by the Uranium Mill Tailings Radiation Control Act of 1978 (42 U.S.C. 7916 (2000)), as amended, it is ordered as follows:

1. Subject to valid existing rights, the following described public land is hereby permanently transferred to the Department of Energy, and as a result of this transfer, except for oil and gas leasing, the land is no longer subject to the general land laws, including the United States mining laws, other mineral or geothermal leasing, and mineral material sales, for the Crescent Junction Uranium Mill Tailings Repository:

T. 21 S., R. 19 E.

Sec. 22, SE¼SE¼SW¼; NE¼SW¼SE¼, S½SW¼SE¼, and SE¼SE¼;

Sec. 23, S½NE¼SW¼, S½NW¼SW¼, and S½SW¼;

Sec. 26, N½NW¼, N½SW¼NW¼, and NW¼SE¼NW¼;

Sec. 27, N½NE¼, SW¼NE¼, N½SE¼NE¼, SW¼SE¼NE¼, E½NE¼NW¼, and E½SE¼NW¼.

The area described contains 500 acres in Grand County.

2. The transfer of the above-described land to the Department of Energy vests in that Department full management, jurisdiction, authority, responsibility, and liability for such land and all activities conducted therein, except as provided in Paragraphs 3 and 4.

3. The authority to administer any existing claims, rights, and interests in this land established before the effective date of the transfer is reserved to the Secretary of the Interior.

4. Authority to administer any future oil and gas leasing is reserved to the Secretary of the Interior.

Dated: March 20, 2008.
C. Stephen Allred,
Assistant Secretary—Land and Minerals Management.

[FR Doc. E8-6598 Filed 3-28-08; 8:45 am]

BILLING CODE 6450-01-P